DEPARTMENT OF LABOR

Employment and Training Administration

[TA-W-52,428]

Edison Fashion, Inc., Bronx, NY; Notice of Termination of Investigation

Pursuant to Section 221 of the Trade Act of 1974, as amended, an investigation was initiated on July 30, 2003, in response to a petition filed by UNITE!, New York Apparel and Allied Workers Joint Board, Local 10, Local 89-22-1 and Local 189, on behalf of workers at Edison Fashion, Inc., Bronx, New York.

The petitioner has requested that the petition be withdrawn. Consequently, the investigation has been terminated.

Signed at Washington, DC, this 12th day of August, 2003.
Elliott S. Kushner,
Certifying Officer, Division of Trade Adjustment Assistance.

[FR Doc. 03-22271 Filed 8-29-03; 8:45 am]

BILLING CODE 4510-30-P